DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EM SSAB), Idaho National Engineering and Environmental Laboratory. The Federal Advisory Committee Act (Pub. L. 92-463, 86 Stat. 770) requires that public notice of these meetings be announced in the Federal Register.

DATES: Tuesday, March 18, 2003, 8 a.m.-6 p.m.; Wednesday, March 19, 2003, 8 a.m.-5 p.m.

Public participation sessions will be held on:Tuesday, March 18, 2003, 12:15-12:30 p.m, 5:45-6 p.m.; Wednesday, March 19, 2003, 11:45-12 noon, 4-4:15 p.m.

These times are subject to change as the meeting progresses. Please check with the meeting facilitator to confirm these times.

ADDRESSES: Red Lion Hotel in the Teton/Bonneville Rooms, 475 River Parkway, Idaho Falls, Idaho 83402.

FOR FURTHER INFORMATION CONTACT: Ms. Wendy Lowe, Idaho National Engineering and Environmental Laboratory (INEEL) Citizens' Advisory Board (CAB) Facilitator, Jason Associates Corporation, 545 Shoup Avenue, Suite 335B, Idaho Falls, ID 83402, Phone (208) 522-1662 or visit the Board's Internet Home page at http://www.ida.net/users/cab.

SUPPLEMENTARY INFORMATION:

Purpose of the Board: The purpose of the Board is to make recommendations to DOE and its regulators in the areas of future use, cleanup levels, waste disposition and cleanup priorities at the INEEL.

Tentative Agenda Topics: (Agenda topics may change up to the day of the meeting. Please contact Jason Associates for the most current agenda or visit the CAB's Internet site at www.ida.net/users/cab/.)

• The Environmental Management Program and the implementation of the Performance Management Plan

• The budget allocation for the Environmental Management Program for Fiscal Year 2003

• Budget priorities for the Fiscal Year 2004 environmental management budget request

• Grouting and plans for use of grouting at the INEEL

• Environmental permitting for the Idaho Nuclear Technology and Engineering Center

• Resolution of the Notice of Violation

• High-level radioactive waste tank closure activities

• Resolution of the lawsuit involving waste incidental to reprocessing (if possible)

• Science and technology strategies for the Water Integration Project

• Proposed LaSalle Nuclear Fuel Project and the ramifications for the INEEL

• Plans for deactivation and decommissioning surplus facilities at the INEEL

• Final INEEL Strategic Plan and the results of the Laboratory Consolidation Study

• New Office of Legacy Management and how the reorganization will affect the INEEL

• Follow-up activities related to the Site Specific Advisory Board Transuranic Waste Workshop

• Preparations for the upcoming Site Specific Advisory Board Chairs Meeting

• Discussion of the role of the CAB with the site Manager

Public Participation: This meeting is open to the public. Written statements may be filed with the Board facilitator either before or after the meeting. Individuals who wish to make oral presentations pertaining to agenda items should contact the Board Chair at the address or tele-phone number listed above. Request must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations. This notice is being published less than 15 days before the date of the meeting due to the late resolution of programmatic issues.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Penny Pink, INEEL CAB Administrator, North Wind Environmental, Inc., PO Box 51174, Idaho Falls, ID 83405 or by calling (208) 528-8718.

Issued at Washington, DC, on February 27, 2003.
Rachel Samuel,
Deputy Advisory Committee Management Officer.

[FR Doc. 03-5149 Filed 3-4-03; 8:45 am]

BILLING CODE 6450-01-P